DEPARTMENT OF THE TREASURY

Office of Foreign Assets Control

Designation of ANWAR AL-AULAQI Pursuant to Executive Order 13224 and the Global Terrorism Sanctions Regulations, 31 CFR Part 594

AGENCY: Office of Foreign Assets Control, Treasury.

ACTION: Notice.

SUMMARY: The Treasury Department's Office of Foreign Assets Control (“OFAC”) is publishing the name of one newly designated individual whose property and interests in property are blocked pursuant to Executive Order 13224 of September 23, 2001, “Blocking Property and Prohibiting Transactions With Persons Who Commit, Threaten To Commit, or Support Terrorism,” and the Global Terrorism Sanctions Regulations, 31 CFR part 594.

DATES: The designation by the Director of OFAC of the one individual identified in this notice was publicly announced on July 12, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site(http://www.treas.gov/ofac). Certain general information pertaining to OFAC's sanctions programs also is available via facsimile through a 24-hour fax-on-demand service, tel.: 202/622-0077.

Background

On September 23, 2001, the President issued Executive Order 13224 (the “Order”) pursuant to authorities including the International Emergency Economic Powers Act, 50 U.S.C. 1701-1706, and the United Nations Participation Act of 1945, 22 U.S.C. 287c. In the Order, the President declared a national emergency to address grave acts of terrorism and threats of terrorism committed by foreign terrorists, including the September 11, 2001, terrorist attacks in New York and Pennsylvania and at the Pentagon. The Order imposes economic sanctions on persons who have committed, pose a significant risk of committing, or support acts of terrorism. The President identified in the Annex to the Order, as amended by Executive Order 13268 of July 2, 2002, 13 individuals and 16 entities as subject to the economic sanctions. The Order was further amended by Executive Order 13284 of January 23, 2003, to reflect the creation of the Department of Homeland Security.

Section 1 of the Order blocks, with certain exceptions, all property and interests in property that are in or hereafter come within the United States or the possession or control of United States persons, of: (1) Foreign persons listed in the Annex to the Order; (2) foreign persons determined by the Secretary of State, in consultation with the Secretary of the Treasury, the Secretary of the Department of Homeland Security and the Attorney General, to have committed, or to pose a significant risk of committing, acts of terrorism that threaten the security of U.S. nationals or the national security, foreign policy, or economy of the United States; (3) persons determined by the Secretary of the Treasury, in consultation with the Departments of State, Homeland Security and Justice, to be owned or controlled by, or to act for or on behalf of those persons listed in the Annex to the Order or those persons determined to be subject to subsection 1(b), 1(c), or 1(d)(i) of the Order; and (4) except as provided in section 5 of the Order and after such consultation, if any, with foreign authorities as the Secretary of State, in consultation with the Secretary of the Treasury, the Secretary of the Department of Homeland Security and the Attorney General, deems appropriate in the exercise of his discretion, persons determined by the Secretary of the Treasury, in consultation with the Departments of State, Homeland Security and Justice, to assist in, sponsor, or provide financial, material, or technological support for, or financial or other services to or in support of, such acts of terrorism or those persons listed in the Annex to the Order or determined to be subject to the Order or to be otherwise associated with those persons listed in the Annex to the Order or those persons determined to be subject to subsection 1(b), 1(c), or 1(d)(i) of the Order.

The Global Terrorism Sanctions Regulations, 31 CFR part 594, implement the Order and delegate to the Director of OFAC the Secretary of the Treasury's authorities pursuant thereto. 31 CFR 594.802. On July 12, 2010 the Director of OFAC, in consultation with the Departments of State, Homeland Security, Justice and other relevant agencies, designated ANWAR AL-AULAQI as an individual whose property and interests in property are blocked pursuant to the Order and the GTSR for, inter alia, acting for or on behalf of al-Qa'ida in the Arabian Peninsula (AQAP) pursuant to subsection 1(c) of the Order and for providing financial, material or technological support for, or other services to or in support of, acts of terrorism pursuant to subsection 1(d)(i) of the Order.

ANWAR AL-AULAQI, a dual U.S.-Yemeni citizen, is a leader of al-Qa'ida in the Arabian Peninsula (AQAP), a Yemen-based terrorist group that has claimed responsibility for numerous terrorist acts against Saudi, Korean, Yemeni, and U.S. targets since its inception in January 2009. ANWAR AL-AULAQI has pledged an oath of loyalty to AQAP emir, Nasir al-Wahishi, and is playing a key role in setting the strategic direction for AQAP. ANWAR AL-AULAQI has also recruited individuals to join AQAP, facilitated training at camps in Yemen in support of acts of terrorism, and helped focus AQAP's attention on planning attacks on U.S. interests.

Since late 2009, ANWAR AL-AULAQI has taken on an increasingly operational role in the group, including preparing Umar Farouk Abdulmutallab, who attempted to detonate an explosive device aboard a Northwest Airlines flight from Amsterdam to Detroit on Christmas Day 2009, for his operation. In November 2009, while in Yemen, Abdulmutallab swore allegiance to the emir of AQAP and shortly thereafter received instructions from ANWAR AL-AULAQI to detonate an explosive device aboard a U.S. airplane over U.S. airspace. After receiving this direction from ANWAR AL-AULAQI, Abdulmutallab obtained the explosive device he used in the attempted Christmas Day attack.

ANWAR AL-AULAQI was imprisoned in Yemen in 2006 on charges of kidnapping for ransom and being involved in an al-Qa'ida plot to kidnap a U.S. official, but was released from jail in December 2007 and subsequently went into hiding in Yemen.

As a result of this designation, all property and interests in property of ANWAR AL-AULAQI that are or hereafter come within the United States or within the possession or control of U.S. persons, including their overseas branches, are blocked. Blocked property may not be transferred, sold or otherwise dealt in without authorization. Any transaction or dealing by a U.S. person, or within the United States, in any property or interests in property of ANWAR AL-AULAQI is prohibited unless authorized, as is any transaction or dealing that evades or avoids this prohibition. It is also unlawful for any person to conspire to violate, or cause a violation of, this prohibition.

Certain transactions that are otherwise prohibited by the Order and the GTSR are authorized by pursuant to general licenses set forth in subpart E of the GTSR. In other cases, OFAC has discretion to issue licenses authorizing specific transactions that are otherwise prohibited by the Order and the GTSR. All requests for specific licenses should be made in writing to the Assistant Director for Licensing, U.S. Department of the Treasury, Office of Foreign Assets Control, 1500 Pennsylvania Avenue, NW., Washington, DC 20220. Licensing procedures are set forth in sections 501.801-802 of the Reporting, Procedures and Penalties Regulations (“RPPR”), 31 CFR Part 501. The RPPR also provide procedures for submitting requests for unblocking funds and reconsideration of a designation. 31 CFR 501.806-807.

The designated individual is as follows:

1. AL-AULAQI, Anwar (a.k.a. AL-AWLAKI, Anwar; a.k.a. AL-AWLAQI, Anwar; a.k.a. AULAQI, Anwar Nasser; a.k.a. AULAQI, Anwar Nasser Abdulla; a.k.a. AULAQI, Anwar Nasswer); DOB 21 Apr 1971; alt. DOB 22 Apr 1971; POB Las Cruces, New Mexico; citizen United States; alt. citizen Yemen (individual) [SDGT]

Dated: July 16, 2010.
Adam J. Szubin,
Director, Office of Foreign Assets Control.

[FR Doc. 2010-18102 Filed 7-22-10; 8:45 am]

BILLING CODE 4810-AL-P